DEPARTMENT OF ENERGY

Federal Energy Regulatory Commission

[Project No. 14616-000]

Notice of Draft License Application (DLA) and Draft Preliminary Draft Environmental Assessment (PDEA) and Request for Preliminary Terms and Conditions: Oregon State University

Take notice that the following Draft License Application (DLA) and Draft Preliminary Draft Environmental Assessment (PDEA) have been filed with the Commission and are available for public inspection.

a. Type of Application: Major Unconstructed Project.

b. Project No.: 14616-000.

c. Date Filed: April 20, 2018.

d. Applicant: Oregon State University.

e. Name of Project: Pacific Marine Energy Center—South Energy Test Site.

f. Location: On the Pacific Ocean, 6 nautical miles off the central Oregon coast near the city of Newport, and in Lincoln County, Oregon. The project occupies 1,695 acres of submerged lands on the Outer Continental Shelf administered by the U.S. Department of the Interior, Bureau of Ocean Energy Management.

g. Filed Pursuant to: Federal Power Act 16 U.S.C. 791(a)-825(r).

h. Applicant Contact: Dr. Burke Hales, College of Earth, Ocean and Atmospheric Sciences, Oregon State University, 104 CEOAS Administration Building, Corvallis, OR 97331-5503; 541-737-5452; email: ceoas_NewWaves@oregonstate.edu.

i. FERC Contact: Jim Hastreiter at (503) 552-2760; or email at james.hastreiter@ferc.gov.

j. Status of Project: With this notice the Commission is soliciting (1) preliminary terms, conditions, and recommendations on the draft PDEA, and (2) comments on the DLA.

k. Deadline for filing: July 20, 2018.

All comments on the draft PDEA and DLA should be sent to the addresses noted above in Item (h), and filed with FERC.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14616-000.

All comments must bear the heading Preliminary Comments, Preliminary Recommendations, Preliminary Terms and Conditions, or Preliminary Prescriptions.

l. A copy of the application is available for review at the Commission in the Public Reference Room or may be viewed on the Commission's website at http://www.ferc.gov using the eLibrary link. Enter the docket number excluding the last three digits in the docket number field to access the document. For assistance, contact FERC Online Support.

Register online at http://www.ferc.gov/docs-filing/esubscription.asp to be notified via email of new filings and issuances related to this or other pending projects. For assistance, contact FERC Online Support.

Oregon State University has mailed a copy of the draft PDEA and DLA to interested entities and parties. Copies of these documents are available for review at Oregon State University, 370 Strand Agricultural Hall, Corvallis, OR 97331-5503.

m. With this notice, we are initiating consultation with the OREGON STATE HISTORIC PRESERVATION OFFICER (SHPO), as required by section 106, National Historic Preservation Act, and the regulations of the Advisory Council on Historic Preservation, 36 CFR 800.4.

Dated: April 25, 2018.
Kimberly D. Bose,
Secretary.

[FR Doc. 2018-09253 Filed 5-1-18; 8:45 am]

BILLING CODE 6717-01-P